ENVIRONMENTAL PROTECTION AGENCY

40 CFR Part 52

[EPA-R09-OAR-2007-1074, FRL-8504-8]

Revisions to the California State Implementation Plan, Monterey Bay Unified Air Pollution Control District and San Joaquin Valley Air Pollution Control District

AGENCY: Environmental Protection Agency (EPA).

ACTION: Direct final rule.

SUMMARY: EPA is taking direct final action to approve revisions to the Monterey Bay Unified Air Pollution Control District (MBUAPCD) and San Joaquin Valley Air Pollution Control District (SJVAPCD) portions of the California State Implementation Plan (SIP). Under authority of the Clean Air Act as amended in 1990 (CAA or the Act), we are approving local rules that address circumvention, reduction of animal matter, and volatile organic compound (VOC) emissions from gasoline bulk storage tanks, gasoline filling stations, petroleum refinery equipment, and petroleum solvent dry cleaning.

DATES: This rule is effective on March 3, 2008 without further notice, unless EPA receives adverse comments by February 1, 2008. If we receive such comment, we will publish a timely withdrawal in the Federal Register to notify the public that this rule will not take effect.

ADDRESSES: Submit comments, identified by docket number EPA-R09-OAR-2007-1074, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Al Petersen, EPA Region IX, (415) 947-4118, petersen.alfred@epa.gov.

SUPPLEMENTARY INFORMATION: Throughout this document, “we,” “us” and “our” refer to EPA.

Table of Contents

I. The State's Submittal

A. What rules did the State submit?

B. Are there other versions of these rules?

C. What is the purpose of the submitted rules and rule revisions?

II. EPA's Evaluation and Action

A. How is EPA evaluating the rules?

B. Do the rules meet the evaluation criteria?

C. EPA recommendation to further improve a rule

D. Public comment and final action

III. Statutory and Executive Order Reviews

I. The State's Submittal

A. What rules did the State submit?

Table 1 lists the rules we are approving with the dates that they were adopted, amended, or revised by the local air agencies and submitted by the California Air Resources Board (CARB).

Table 1.—Submitted Rules for Full Approval
District | Rule No. | Rule title | Adopted, amended, or revised | Submitted
MBUAPCD | 415 | Circumventions | 03/21/07 Revised | 08/24/07
MBUAPCD | 418 | Transfer of Gasoline into Stationary Storage Containers | 03/21/07 Revised | 08/24/07
MBUAPCD | 1002 | Transfer of Gasoline into Vehicle Fuel Tanks | 03/21/07 Revised | 08/24/07
SJVUAPCD | 4104 | Reduction of Animal Matter | 12/17/92 Amended | 08/24/07
SJVUAPCD | 4402 | Crude Oil Production Sumps | 12/17/92 Amended | 08/24/07
SJVUAPCD | 4404 | Heavy Oil Test Station—Kern County | 12/17/92 Adopted | 08/24/07
SJVUAPCD | 4453 | Refinery Vacuum Producing Devices or Systems | 12/17/92 Amended | 08/24/07
SJVUAPCD | 4454 | Refinery Process Unit Turnaround | 12/17/92 Amended | 08/24/07
SJVUAPCD | 4625 | Wastewater Separators | 12/17/92 Amended | 08/24/07
SJVUAPCD | 4641 | Cutback, Slow Cure, and Emulsified Asphalt, Paving and Maintenance Operations | 12/17/92 Amended | 08/24/07
SJVUAPCD | 4672 | Petroleum Solvent Dry Cleaning Operations | 12/17/92 Amended | 08/24/07

On September 17, 2007, the submittal of August 24, 2007 was found to meet the completeness criteria in 40 CFR part 51, appendix V, which must be met before formal EPA review.

B. Are there other versions of these rules?

We approved a version of MBUAPCD Rules 415, 418, and 1002 into the SIP on March 7, 2003 (68 FR 10966), May 24, 2004 (69 FR 29451), and January 15, 2004 (69 FR 2300), respectively.

Some SIP versions of submitted SJVAPCD rules are old rules from the eight counties that now comprise SJVAPCD; other SIP versions are SJVAPCD rules that have been renumbered. These SIP-approved rules are described below.

Precursor SIP rules for submitted SJVAPCD Rule 4104:

• Fresno County Rule 414, Reduction of Animal Matter (approved on September 22, 1972, 37 FR 19812).

• Kern County Rule 415, Reduction of Animal Matter (approved on September 22, 1972, 37 FR 19812).

• Kings County Rule 415, Reduction of Animal Matter (approved on September 22, 1972, 37 FR 19812).

• Madera County Rule 421, Reduction of Animal Matter (approved on November 18, 1983, 48 FR 52450).

• Merced County Rule 414, Reduction of Animal Matter (approved on September 22, 1972, 37 FR 19812).

• San Joaquin County Rule 414, Reduction of Animal Matter (approved on August 22, 1977, 42 FR 42219).

• Stanislaus County Rule 414, Reduction of Animal Matter (approved on September 22, 1972, 37 FR 19812).

• Tulare County Rule 415, Reduction of Animal Matter (approved on September 22, 1972, 37 FR 19812).

Precursor SIP rule for submitted SJVAPCD Rule 4402:

• SJVAPCD Rule 465.2, Crude Oil Production Sumps (amended on September 19, 1991, approved on December 18, 1994, 59 FR 64132).

Precursor SIP rules for submitted SJVAPCD Rule 4453:

• Kern County Rule 414.2, Refinery Process Vacuum Producing Devices or Systems (approved on August 21, 1981, 46 FR 42459).

• Kings County Rule 414.2, Refinery Vacuum Producing Devices or Systems (approved on May 7, 1982, 47 FR 19696).

• San Joaquin County Rule 413.2, Refinery Vacuum Producing Devices (approved on May 7, 1982, 47 FR 19696).

Precursor SIP rules for submitted SJVAPCD Rule 4454:

• Kern County Rule 414.3, Refinery Process Unit Turnaround (approved on August 21, 1981, 46 FR 42459).

• Kings County Rule 414.3, Refinery Process Unit Turnaround (approved on May 7, 1982, 47 FR 19696).

• San Joaquin County Rule 413.3, Refinery Process Unit Turnaround (approved on May 7, 1982, 47 FR 19696).

Precursor SIP rule for submitted SJVAPCD Rule 4625:

• SJVAPCD Rule 463.4, Wastewater Separators (adopted on April 11, 1991, approved on May 13, 1993, 58 FR 28354).

Precursor SIP rule for submitted SJVAPCD Rule 4641:

• SJVAPCD Rule 463.1, Cutback, Slow Cure, and Emulsified Asphalt, Paving and Maintenance Operations (amended on September 19, 1991, approved on June 24, 1992, 57 FR 28089).

Precursor SIP rule for submitted SJVAPCD Rule 4672:

• SJVAPCD Rule 467.2, Petroleum Solvent Dry Cleaning Operations (adopted on April 11, 1991, approved on April 24, 1992, 57 FR 15026).

There is no SIP rule for submitted SJVAPCD Rule 4404.

C. What is the purpose of the submitted rules and rule revisions?

Section 110(a) of the CAA requires states to submit regulations that control volatile organic compounds, oxides of nitrogen, particulate matter, and other air pollutants which harm human health and the environment. These rules were developed as part of the local agency's program to control these pollutants.

The purposes of revisions to MBUAPCD Rules 415, 418, and 1002 relative to the SIP are as follows:

• 415.3.2: Two provisions are added to ensure that source tests are performed as scheduled and not discontinued to avoid documentation of periods of noncompliance.

• 418.3.6: A requirement is added for International Code Council (ICC) certification of vapor recovery installation personnel and vapor recovery test personnel for Phase I equipment.

• 1002.1.3.4: An exemption from Phase II vapor recovery is added for facilities that have 90% of their vehicle fleet equipped with onboard refueling vapor recovery (ORVR).

• 1002.3.8: A requirement is added for ICC certification of vapor recovery installation personnel and vapor recovery test personnel for Phase II equipment.

The purposes of new SJVAPCD Rule 4404 and amended Rules 4104, 4402, 4453, 4454, 4625, 4641, and 4672 and their amendments are as follows:

• 4104: The rule requires reducing air contaminants during the reduction of animal matter by setting a minimum exposure time of 0.3 seconds at 1200 degrees Fahrenheit. The format of the rule is improved.

• 4402: The rule requires limiting VOC emissions from sumps by the use of emission control devices. The format of the rule is improved, and the definition of VOC is deleted.

• 4404: The rule requires reducing uncontrolled VOC emissions from a heavy oil test station by 99%.

• 4453: The rule requires reducing VOC emissions from refinery vacuum producing devices by covering hotwells and collecting vapors for recycle to refinery gas or incineration. The format of the rule is improved.

• 4454: The rule requires reducing VOC emissions from a refinery process unit turnaround by collecting vapors for recycle to refinery gas, incineration, or flaring. The format of the rule is improved.

• 4625: The rule requires reducing VOC emissions from wastewater separators by installing covers or by the use of a vapor recovery system with a control efficiency of at least 90%. The format of the rule is improved, and the definition of VOC is deleted.

• 4641: The rule requires reducing VOC emissions by prohibiting the application and manufacturing of certain types of asphalt used for paving and maintenance operations. The format of the rule is improved, and the definition of VOC is deleted.

• 4672: The rule requires reducing VOC emissions from petroleum solvent dry cleaning operations through implementation of various good operating practices and with the use of emission control equipment. The format of the rule is improved.

The TSD has more information about these rules.

II. EPA's Evaluation and Action

A. How is EPA evaluating the rules?

Generally, SIP rules must be enforceable (see section 110(a) of the CAA), must require Reasonably Available Control Technology (RACT) for each category of sources covered by a Control Techniques Guidelines (CTG) document as well as each major source in nonattainment areas (see section 182(a)(2)), and must not relax existing requirements (see sections 110(l) and 193). Gasoline dispensing sources in ozone nonattainment areas must have gasoline vapor recovery equipment (see section 182(a)(3)(A)). The MBUAPCD regulates an ozone maintenance attainment area (see 40 CFR part 81) and must require the use vapor recovery equipment at gasoline dispensing facilities in order to retain its maintenance attainment status. The SJVAPCD regulates an ozone nonattainment area (see 40 CFR part 81) and must fulfill the requirements of RACT.

Guidance and policy documents that we used to help evaluate specific enforceability and RACT requirements consistently include the following:

1. Portions of the proposed post-1987 ozone and carbon monoxide policy that concern RACT, 52 FR 45044 (November 24, 1987).

2. Issues Relating to VOC Regulation Cutpoints, Deficiencies, and Deviations, EPA (May 25, 1988). [The Bluebook].

3. Guidance Document for Correcting Common VOC & Other Rule Deficiencies, EPA Region 9 (August 21, 2001). [The Little Bluebook].

4. Suggested Control Measure for the Control of Organic Compound Emissions from Sumps Used in Oil Production Operation, California Air Resources Board (August 1988).

5. Control of Refinery Vacuum Producing systems, Wastewater Separators, and Process Unit Turnarounds, U.S. EPA (October 1977).

6. Control of VOC from the Use of Cutback Asphalt, U.S. EPA (December 1977).

7. Control of VOC Emissions from Large Petroleum Dry Cleaners, U.S. EPA (September 1982).

B. Do the rules meet the evaluation criteria?

There are no specific requirements for MBUAPCD Rule 415, but the revisions improve enforcement of other rules. The rule should be given full approval. We believe that MBUAPCD Rules 418 and 1002 comply with the vapor recovery requirements for gasoline dispensing facilities and should be given full approval.

We believe that SJVAPCD Rules 4104, 4402, 4404, 4453, 4454, 4625, 4641, and 4672 are consistent with the relevant policy and guidance regarding enforceability and SIP relaxations, fulfill the requirements of RACT, and should be given full approval.

The TSD has more information on our evaluation.

C. EPA recommendation to further improve a rule

The TSD describes a recommended revision to SJVAPCD Rule 4404 that does not affect EPA's current action but is recommended for the next time the local agency modifies the rule.

D. Public comment and final action

As authorized in section 110(k)(3) of the CAA, EPA is fully approving the submitted rules because we believe they fulfill all relevant requirements. We do not think anyone will object to this approval, so we are finalizing it without proposing it in advance. However, in the Proposed Rules section of this Federal Register, we are simultaneously proposing approval of the same submitted rules. If we receive adverse comments by February 1, 2008, we will publish a timely withdrawal in the Federal Register to notify the public that the direct final approval will not take effect and we will address the comments in a subsequent final action based on the proposal. If we do not receive timely adverse comments, the direct final approval will be effective without further notice on March 3, 2008. This will incorporate these rules into the federally enforceable SIP.

Please note that if EPA receives adverse comment on an amendment, paragraph, or section of this rule and if that provision may be severed from the remainder of the rule, EPA may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by March 3, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: November 16, 2007.
Laura Yoshii,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(351)(i)(B)(2), (B)(3), and (C) to read as follows:

§ 52.220 Identification of plan.

* * * * *

(c) * * *

(351) * * *

(i) * * *

(B) * * *

(2) Rules 415 and 418, adopted on September 1, 1974 and revised on February 21, 2007 and March 21, 2007, respectively.

(3) Rule 1002, adopted on February 22, 1989 and revised on March 21, 2007.

(C) San Joaquin Valley Air Pollution Control District.

(1) Rules 4104, 4404, 4453, and 4454, adopted on May 21, 1992 and amended on December 17, 1992.

(2) Rules 4402, 4625, 4641, and 4672, adopted on April 11, 1991 and amended on December 17, 1992.

[FR Doc. E7-25103 Filed 12-31-07; 8:45 am]

BILLING CODE 6560-50-P